DEPARTMENT OF STATE

[Public Notice 8382]

Additional Designation of Aluminat, Pars Amayesh Sanaat Kish, Parviz Khaki, Pishro Systems Research Company, and Taghtiran Kashan Company Pursuant to Executive Order 13382

AGENCY: Department of State.

ACTION: Designation of Four Iranian Entities and One Individual Pursuant to Executive Order (E.O.) 13382.

SUMMARY: Pursuant to the authority in section 1(ii) of Executive Order 13382, “Blocking Property of Weapons of Mass Destruction Proliferators and Their Supporters”, the State Department, in consultation with the Secretary of the Treasury and the Attorney General, has determined that Aluminat, Pars Amayesh Sanaat Kish, Parviz Khaki, Pishro Systems Research Company, and Taghtiran Kashan Company have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern.

DATES: The designation by the Acting Under Secretary of State for Arms Control and International Security of the entity identified in this notice pursuant to Executive Order 13382 is effective on TBD, 2013.

FOR FURTHER INFORMATION CONTACT: Director, Office of Counterproliferation Initiatives, Bureau of International Security and Nonproliferation, Department of State, Washington, DC 20520, tel.: 202-647-5193.

Background

On June 28, 2005, the President, invoking the authority, inter alia, of the International Emergency Economic Powers Act (50 U.S.C. 1701-1706) (“IEEPA”), issued Executive Order 13382 (70 CFR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery, including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

Information on the additional designees is as follows:

Aluminat

AKA: Aluminat Production and Industrial Company

Address: Unit 38, 5th Floor, No. 9, Golfam Avenue, Africa Avenue, Tehran, Iran

Address: Factory—Kilometer 13, Arak Road, Parcham Street, Arak, Iran

PARS Amayesh Sanaat Kish

AKA: PASK

AKA: Vacuumkaran

AKA: Vacuum Karan

AKA: Vacuum Karan Co.

Address: 3rd Floor, No. 6, East 2nd, North Kheradmand, Karimkhan Street, Tehran, Iran

Parviz Khaki

AKA: Martin

DOB: 26 August 1968

POB: Tehran, Iran

Pishro Systems Research Company

AKA: Pishro Company

AKA: Advanced Systems Research Company

AKA: ASRC

AKA: Center for Advanced Systems Research

AKA: CRAS

Address: Tehran, Iran

Taghtiran Kashan Company

AKA: Taghtiran Kashan Company

AKA: Taghtiran P.J.S.

Address: Flat 2, No. 3, 2nd Street, Azad-Abadi Avenue, Tehran, Iran 14316

Address: KM 44 Kashan-Delijan Road, P.O. Box Kashan 87135/1987, Iran

Dated: May 7, 2013.
Rose Gottemoeller,
Acting Under Secretary for Arms Control and International Security, Department of State.

[FR Doc. 2013-16993 Filed 7-15-13; 8:45 am]

BILLING CODE 4710-00-P